DEPARTMENT OF STATE

Bureau of Nonproliferation

[Public Notice 4675]

Lifting of Nonproliferation Statutory and Discretionary Measures Against Two Russian Entities, TZNII Central Scientific Research Institute of Precision Machine Building (aka Tzniitochmash) and Volsk Mechanical Plant

SUMMARY: A determination has been made, pursuant to section 620H of the Foreign Assistance Act of 1961, as amended, section 543 of the Foreign Operations, Export Financing, and Related Programs Appropriations, Division D, of the Consolidated Appropriations Act, 2004 (Pub. L. 108-99), and similar provisions in previous annual Foreign Operations, Export Financing, and Related Programs Appropriations acts, and Executive Order 12163, as amended, to waive the statutory assistance ban on two Russian entities. The United States Government also has determined to remove discretionary nonproliferation measures on the same two Russian entities.

EFFECTIVE DATE: April 1, 2004.

FOR FURTHER INFORMATION CONTACT: Ron Parson, Office of Export Controls and Conventional Arms Nonproliferation Policy, Bureau of Nonproliferation, Department of State, (202-647-0397).

SUPPLEMENTARY INFORMATION: Pursuant to section 620H of the Foreign Assistance Act of 1961, as amended, section 543 of the Foreign Operations, Export Financing, and Related Programs Appropriations, Division D, of the Consolidated Appropriations Act, 2004 (Pub. L. 108-99), and similar provisions in previous annual Foreign Operations, Export Financing, and Related Programs Appropriations acts, and Executive Order 12163, as amended, a determination was made on March 23, 2004, that furnishing assistance restricted by any of the foregoing provisions of law to TZNII Central Scientific Research Institute of Precision Machine-Building (aka Tzniitochmash) and Volsk Mechanical Plant is important to the national interests of the United States. On the same date, a determination was made pursuant to the authorities of the Foreign Assistance Act and the Arms Export Control Act that it is no longer the policy of the United States Government to deny all types of United States Government assistance to these two entities or to deny licenses and other approvals of defense articles and services for export to these two entities.

These restrictions were imposed on the entities on April 29, 1999 (see 64 FR 23148), and June 9, 1999 (see 64 FR 31029).

Dated: March 26, 2004.
John S. Wolf,
Assistant Secretary of State for Nonproliferation, Department of State.

[FR Doc. 04-7339 Filed 3-31-04; 8:45 am]

BILLING CODE 4710-27-P